DEPARTMENT OF AGRICULTURE

Forest Service

Notice of New Recreation Fee Site; Federal Lands Recreation Enhancement Act, (Title VIII, Pub. L. 108-447)

AGENCY: National Forests in Mississippi, USDA Forest Service.

ACTION: Notice of Proposed Recreation Fees.

SUMMARY: The National Forests in Mississippi is proposing new fees for two horse trails. Witch Dance Horse Trail is located on the Tombigbee National Forest within Chickasaw County, MS. This trail is 18 miles long with multiple loops and 1 trailhead that provides a toilet, hitching posts, and designated developed parking. Big Foot Horse Trail is located on the De Soto National Forest, De Soto Ranger District within Harrison County, MS. This trail is 22 miles long trail with multiple loops and 1 trailhead that provides a toilet, hitching posts and designated developed parking. The Forest Service proposes to charge $5 per rider per day for use of these trails. Funds received from these fees will be used for continued operation and maintenance of these trails and would allow additional amenities to be added in the future. The purpose of this notice is to solicit public input on this proposal. Please contact us or provide written comments (information below) within 6 months from the date of this publication.

DATES: These trails are available for public use now. However, fees will not be initiated until after public comments have been considered and reviewed by the Recreation Resource (citizen) Advisory Committee.

FOR FURTHER INFORMATION CONTACT: Jeff Gainey, Recreation Program Manager, 601-965-1617, National Forests in Mississippi, 100 West Capitol Street, Suite 1141, Jackson, MS 39269.

SUPPLEMENTARY INFORMATION: The Federal Recreation Lands Enhancement Act (Title VII, Pub. L. 108-447) directed the Secretary of Agriculture to publish advance notice in the Federal Register whenever new recreation fee areas are established. The National Forests in Mississippi currently manages two other horse trails. Comparable recreational use fees are currently charged at these sites.

Dated: March 10, 2008.
R.E. Vann III,
Acting Forest Supervisor, National Forest in Mississippi.

[FR Doc. E8-6191 Filed 3-27-08; 8:45 am]

BILLING CODE 3410-11-M